DEPARTMENT OF HEALTH AND HUMAN SERVICES

Administration for Children and Families

Statement of Organization, Functions and Delegations of Authority

Notice is hereby given that I delegate to the Director, Office of Refugee Resettlement, with authority to redelegate, the following authority vested in the Assistant Secretary for Children and Families by the Secretary under section 421(b)(3) of the Immigration and Nationality Act (INA), 8 U.S.C. 1522(b)(3).

(a) Authority Delegated.

Authority, under section 412(b)(3) of the Immigration and Nationality Act (INA), to make arrangements for the temporary care of refugees in the United States in emergency circumstances, including the establishment of processing centers, if necessary, without regard to such provisions of law (other than the Renegotiation Act of 1951 and § 414(b) of the INA) regulating the making, performance, amendment, or modification of contracts and the expenditure of funds of the United States Government.

(b) Effect on Existing Delegations.

None.

(c) This delegation is limited to providing for the temporary care, including medical screening, of approximately 1,150 Burmese and Chinese asylum applicants on Guam awaiting adjudication of their asylum claims by the Immigration and Naturalization Service (INS).

(d) This delegation shall be exercised under the Department's existing delegation of authority and policy on regulations. This delegation of authority is effective upon date of signature. In addition, I hereby, affirm and ratify any actions taken by the Director or any other officials of the Office of Refugee Resettlement that, in effect, involved the exercise of these authorities prior to the effective date of this delegation.

(e) Any redelegation shall be in writing and prompt notification must be provided to all affected managers, supervisors and other personnel.

Dated: April 19, 2001.
Diann Dawson,
Acting Principal Deputy Assistant Secretary.

[FR Doc. 01-10445 Filed 4-25-01; 8:45 am]

BILLING CODE 4184-01-M